DELAWARE RIVER BASIN COMMISSION

Notice of Commission Meeting and Public Hearing

Notice is hereby given that the Delaware River Basin Commission will hold an informal conference followed by a public hearing on Wednesday, December 12, 2007. The hearing will be part of the Commission's regular business meeting. Both the conference session and business meeting are open to the public and will be held at the Commission's office building, located at 25 State Police Drive in West Trenton, New Jersey. The conference among the commissioners and staff will begin at 10 a.m. Topics of discussion will include: a status report by staff of the U.S. Geological Survey on the flood analysis model under development in accordance with DRBC Resolution No. 2006-20 to evaluate the potential for reservoirs throughout the basin to be used to mitigate flooding along the Delaware River and its tributaries; status of a proposal to update the water quality standard for PCBs in the Delaware Estuary and provide for implementation of the new standard; a report on the status of three pending rulemakings—(a) amendments to the Water Code and Water Quality Regulations relating to water accountability and source metering, recording and reporting; (b) Water Code amendments to implement a Flexible Flow Management Program proposed by the parties to the Supreme Court Decree of 1954 for operation of the New York City Delaware Basin reservoirs; and (c) amendments to the Water Code and Water Quality Regulations regarding Special Protection Waters. In addition, there will be a discussion of the proposed DRBC FY 2008-2009 Water Resources Program and a presentation by Dr. Rebecca L. Schneider of Cornell University on how networks of roadside ditches across watersheds contribute significantly to flooding, droughts, and degraded water quality downstream.

The subjects of the public hearing to be held during the 1:30 p.m. business meeting include the dockets listed below:

1. Deptford Township Municipal Utilities Authority D-94-68 CP-2. An application for the renewal of a ground water withdrawal project to continue withdrawal of 123 mg/30 days to supply the applicant's public water supply distribution system from existing Wells Nos. 1, 2, 4, 6, 7, 8 and 9R in the Potomac-Raritan-Magothy Formation. The project is located in the Lower Delaware Watershed in Deptford Township, Gloucester County, New Jersey, in New Jersey Critical Water Supply Area 2.

2. City of Vineland D-95-47 CP-2. An application for the renewal of a ground water withdrawal project to continue the withdrawal of 494.5 mg/30 days to supply the applicant's public water supply distribution system from existing Wells Nos. 2 through 14 in the Cohansey Formation. The project is located in the Maurice River Watershed in the City of Vineland, Cumberland County, New Jersey.

3. Merchantville-Pennsauken Water Commission D-97-5 CP-2. An application for the renewal of a ground water withdrawal project to continue withdrawal of 335 mg/30 days to supply the applicant's public water supply distribution system from fifteen (15) existing wells in the Potomac-Raritan-Magothy Formation. The project is located in the Pennsauken Creek Watershed in Merchantville Borough and Pennsauken Township, Camden County, New Jersey.

4. Nestlé Waters North America, Inc. D-98-27-3. An application for the renewal of a spring water withdrawal project to continue withdrawal of 9 mg/30 days to supply the applicant's bottled water operations from existing Hoffman Springs Nos. 1, 2 and 3 and new Mattos Catchment No. 1. The project is located in the Ontelaunee Creek Watershed in Lynn Township, Lehigh County, Pennsylvania.

5. Sapa Extrusions, Inc. (formerly Alcoa Extrusions, Inc.) D-2005-1-3. An application to continue to discharge up to 0.10 mgd from an existing outfall to the West Branch Schuylkill River. No expansion of the treatment facility is proposed and no alterations to the existing effluent limits are requested. The treatment facility is located in Cressona Borough, Schuylkill County, Pennsylvania.

6. E. I. du Pont de Nemours and Company D-71-86-2. An application for the renewal and update of the Edge Moor facility's IWTP and non-contact cooling water discharges and for approval of the installation of an effluent diffuser. The permitted discharges from the applicant's titanium dioxide production facility include a 5.2 mgd discharge of treated IWTP effluent from Outfall 001, a 2.89 mgd discharge of non-contact cooling water and storm water from Outfall 002, and a 5.9 mgd discharge of non-contact cooling water and stormwater from Outfall 003. The facility will continue to discharge to the Delaware River. The facility is located in Edgemoor, Delaware.

7. Warren County (Pequest River) Municipal Authority D-71-96 CP-2. An application to modify an existing docket by providing a Total Dissolved Solids (TDS) determination for the Warren County (Pequest River) Municipal Utilities Authority's Oxford Area Wastewater Treatment Plant (WWTP). The Oxford Area WWTP has a design flow of 0.5 million gallons per day (mgd) and treats primarily domestic sewage prior to discharge to the Pequest River at River Mile 197.8-7.2-0.9. The facility also accepts leachate from a landfill operated by the Pollution Control Financing Authority of Warren County and from Covanta Industry. Because these waste streams can result in a WWTP discharge that exceeds DRBC's basinwide effluent TDS limitation of 1000 mg/L, the applicant has requested a variance in the form of an adjusted effluent TDS limitation of 9,864 pounds per day. DRBC criteria allow for a variance from a TDS effluent limit where the variance would not result in an instream TDS concentration in excess of 500 mg/L or an increase in the instream TDS concentrations of more than 33%. The Pequest is a tributary of the Lower Delaware River, which DRBC has designated on an interim basis as Special Protection Waters with a classification of Significant Resource Waters. The facility is located in Oxford Township, Warren County, New Jersey.

8. County of Chester Department of Facilities Management D-83-15 CP-3. An application for approval to expand a 0.105 mgd WWTP to treat an average flow of 0.13676 mgd. The WWTP will continue to serve only the Pocopson Home and Prison, located in Pocopson Township, Chester County, Pennsylvania. Following advanced treatment, the WWTP effluent will be applied to expanded adjacent spray fields, which are located in the Pocopson Creek Watershed. A new aerated lagoon will be constructed to provide sufficient supplemental effluent storage, so that a WWTP discharge to a stream will not be needed.

9. The Premcor Refining Group, Inc. D-93-4-6. An application to replace the withdrawal of water from Wells Nos. P-3A and P-4A in the applicant's water supply system that have become unreliable sources of supply and to increase the applicant's surface water withdrawal from the Delaware River and Red Lion Creek. Premcor requests that its combined withdrawal from replacement Wells Nos. P-3B and P-4B and seven existing wells remain limited to 180 million gallons per thirty days (mg/30 days); that its withdrawal from the Delaware River intake remain 13,560 mg/30 days; that the docket authorize withdrawals of 38.9 mg/30 days from the Red Lion Creek intake and up to 56.2 mg/30 days from the Dragon Run intake, and that Premcor's combined withdrawal from all sources be limited to 13,835.1 mg/30 days. The proposed allocation represents no increase in groundwater withdrawals and no increase from the Delaware River intake. The docket is proposed to include previously un-docketed pre-Compact DNREC allocations from Dragon Run and Red Lion Creek. The project is located in the Potomac Formation in the C&D Canal East, Dragon Run Creek, Red Lion Creek and Delaware River watersheds in Delaware City, New Castle County, Delaware.

10. Valero Paulsboro Refinery D-2006-28-1. An application for approval of a surface water withdrawal project to supply up to 10.8 mgd (324 mg/30 days) of water to the applicant's petroleum refinery from an existing surface water intake. The project is located in the Delaware Watershed in Greenwich Township, Gloucester County, New Jersey, in New Jersey Critical Water Supply Area 2.

11. Exelon Power D-2006-44-1. An application for approval of an existing surface water withdrawal project to supply up to 9,975 mg/30 days of water to the applicant's Cromby Generating Station from the Schuylkill River and to limit the existing withdrawal from all intakes to 9,975 mg/30 days. No increase in withdrawals is requested. The project is located in the Schuylkill River Watershed in East Pikeland Township, Chester County, Pennsylvania and is located in the Southeastern Pennsylvania Ground Water Protected Area.

12. To-Jo Mushrooms Inc. D-2007-3-1. An application for approval of the rerate of the existing To-Jo Mushroom IWTP from 0.03 mgd to 0.049 mgd and for approval of the existing 0.035 mgd discharge of contact cooling water. The applicant's IWTP serves a mushroom canning facility. The IWTP and contact cooling water will continue to be discharged to Trout Run, a tributary of the White Clay Creek. The facility is located in New Garden Township, Chester County, Pennsylvania.

13. The Asbury Graphite Mills, Inc. D-2007-26-1. An application for approval of a ground water withdrawal project to supply up to 5.65 mg/30 days of water to the applicant's manufacturing facility from Intakes Nos. 1, 2A, 2B and 2C in the Musconetcong River and to supply up to 1.43 mg/30 days from Wells Nos. 1 and 2 completed in the Allentown Dolomite Formation in the Musconetcong River Watershed, for a total allocation of 7.08 mg/30 days. The project is located in Bethlehem Township, Hunterdon County, New Jersey, within the drainage area to the section of the non-tidal Delaware River known as the Lower Delaware, which is designated as Special Protection Waters.

14. Woodbourne Correctional Facility D-2007-28 CP-1. An application for approval of a ground water withdrawal project to supply up to 7.20 mg/30 days of water to the applicant's domestic water supply from Wells Nos. 1, 2, 3, 4, 5, 6 and 7 and to limit the existing withdrawal from all wells to 7.20 mg/30 days. The project is located in the Valley Fill Aquifer in the Middle Delaware Watershed in Woodbourne Township, Sullivan County, New York, within the drainage area to the section of the non-tidal Delaware River known as the Upper Delaware, which is designated as Special Protection Waters.

In addition, the Commission's 1:30 p.m. business meeting will include a public hearing on the proposed Fiscal Year 2008-2009 Current Expense and Capital Budgets.

The business meeting also will include adoption of the Minutes of the Commission's September 26, 2007 business meeting; announcements of upcoming advisory committee meetings and other events; a report by the Executive Director; a report by the Commission's General Counsel; and an opportunity for public dialogue.

Draft dockets scheduled for public hearing on December 12, 2007 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the Commission secretary directly at 609-883-9500 ext. 203 or through the Telecommunications Relay Services (TRS) at 711, to discuss how the Commission can accommodate your needs.

November 19, 2007.
Pamela M. Bush,
Commission Secretary.

[FR Doc. E7-23013 Filed 11-26-07; 8:45 am]

BILLING CODE 6360-01-P